DEPARTMENT OF ENERGY

Federal Energy Regulatory Commission

[Docket No. RP99-513-023]

Questar Pipeline Company; Notice of Negotiated Rates

February 6, 2003.

Take notice that on February 3, 2003, Questar Pipeline Company's (Questar) submitted a tariff filing to implement a negotiated-rate contract for BP Energy Company. Questar states that the contract was authorized by Commission orders issued October 27, 1999, and December 14, 1999, in Docket Nos. RP99-513, et al.

Questar states that a copy of this filing has been served upon all parties to this proceeding.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: February 18, 2003.

Magalie R. Salas,
Secretary.

[FR Doc. 03-3547 Filed 2-12-03; 8:45 am]

BILLING CODE 6717-01-P